DEPARTMENT OF ENERGY

Federal Energy Regulatory Commission

[Docket No. CP17-257-000]

WBI Energy Transmission Inc.; Notice of Schedule for Environmental Review of the Valley Expansion Project

On April 26, 2017, WBI Energy Transmission Inc. (WBI Energy) filed an application in Docket No. CP17-257-000 requesting a Certificate of Public Convenience and Necessity pursuant to Section 7(c) of the Natural Gas Act to construct and operate certain natural gas pipeline facilities. The proposed project is known as the Valley Expansion Project (Project), and would provide an additional 40 million cubic feet per day of firm transportation on its system.

On May 9, 2017, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—September 20, 2017

90-day Federal Authorization Decision Deadline—December 19, 2017.

If a schedule change becomes necessary, additional notice will be provided so that the relevant agencies are kept informed of the Project's progress.

Project Description

WBI Energy proposes to construct a new 2,600-horsepower electric-driven compressor station in Cass County, North Dakota; 38 miles of new 16-inch-diameter pipeline between Mapleton, North Dakota and Felton, Minnesota; and farm taps, valve settings, and ancillary facilities. Additionally, WBI Energy proposes to replace two existing town border station delivery points and construct one regulator station in Burleigh, Stutsman, and Barnes Counties, North Dakota, respectively, to increase the operating pressure of a portion of its Line Section 24.

Background

On November 23, 2016, the Commission issued a Notice of Intent to Prepare an Environmental Assessment for the Planned Valley Expansion Project and Request for Comments on Environmental Issues (NOI). The NOI was issued during the pre-filing review of the Project in Docket No. PF16-10 and was sent to affected landowners; federal, state, and local government agencies; elected officials; Native American tribes; other interested parties; and local libraries and newspapers. In response to the NOI, commenters raised concerns regarding: watershed and waterbody crossings; stormwater discharge; groundwater impacts; flood zone impacts; reseeding and species review requirements; Section 106 consultation; cultural resources and land valuation impacts; route variations; project impacts on the Fargo-Moorhead Area Diversion Project; and fugitive dust emissions and noise impacts.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the eLibrary link, select General Search from the eLibrary menu, enter the selected date range and Docket Number excluding the last three digits (i.e., CP17-257), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: July 28, 2017.
Kimberly D. Bose,
Secretary.

[FR Doc. 2017-16347 Filed 8-2-17; 8:45 am]

BILLING CODE 6717-01-P